SECURITIES AND EXCHANGE COMMISSION

[File No. 500-1]

In the Matter of Xtreme Motorsports International, Inc.; Order of Suspension of Trading

March 3, 2010.

It appears to the Securities and Exchange Commission that there is a lack of current and accurate information concerning the securities of Xtreme Motorsports International, Inc. (“Xtreme Motorsports”) because questions have arisen regarding trading in the company's stock. Xtreme Motorsports is quoted on the Pink Sheets under the symbol “XTMM.”

The Commission is of the opinion that the public interest and the protection of investors require a suspension of trading in the securities of the above-listed company.

Therefore, it is ordered, pursuant to Section 12(k) of the Securities Exchange Act of 1934, that trading in the securities of the above-listed company is suspended for the period from 9:30 a.m. EST, on March 3, 2010 through 11:59 p.m. EDT, on March 16, 2010.

By the Commission.
Florence E. Harmon,
Deputy Secretary.

[FR Doc. 2010-4803 Filed 3-3-10; 4:15 pm]

BILLING CODE 8011-01-P